DEPARTMENT OF COMMERCE

National Oceanic and Atmospheric Administration

[RTID 0648-XD979]

New England Fishery Management Council; Public Meeting

AGENCY: National Marine Fisheries Service (NMFS), National Oceanic and Atmospheric Administration (NOAA), Commerce.

ACTION: Notice of public meetings.

SUMMARY: The New England Fishery Management Council (Council) is holding a hybrid meeting of its Scientific and Statistical Committee (SSC) to consider actions affecting New England fisheries in the exclusive economic zone (EEZ). Recommendations from this group will be brought to the full Council for formal consideration and action, if appropriate.

DATES: This meeting will be held on Wednesday, June 12, 2024, beginning at 9 a.m.

ADDRESSES: This meeting will be held at the Hilton Garden Inn, 100 Boardman Street, Boston, MA 02128, Phone: (617) 567-6789.

Webinar Registration information: https://nefmc-org.zoom.us/webinar/register/WN_PkjB46WpTrSQhBETzZ7eZQ.

Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

Agenda: The Scientific and Statistical Committee (SSC) will meet to receive an update on the development of a revised Risk Policy; provide feedback on the proposed approach and implementation. The Committee will also receive a presentation on the Northeast Fisheries Science Center's State of the Ecosystem Report (SOE); make any recommendations for improvements and discuss how best to use these reports in management. The SSC will receive an update on climate action planning by the East Coast Climate Coordination Group and Core Team, including their efforts to integrate findings of the SOE report into Action Menu revisions and planning 2025 Council work priorities; comment on how SOE findings can be integrated into climate planning and whether other information/indicators might be useful for this work. They will also present preliminary findings of a recent workshop “Implementing Social Science Methods for Fisheries Decision-Making” and discuss the use of human dimensions information and expertise by the SSC. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

The meeting is physically accessible to people with disabilities. Requests for sign language interpretation or other auxiliary aids should be directed to Cate O'Keefe, Executive Director, at (978) 465-0492, at least 5 days prior to the meeting date.

Authority: 16 U.S.C. 1801 et seq.

Dated: May 20, 2024.
Rey Israel Marquez,
Acting Deputy Director, Office of Sustainable Fisheries, National Marine Fisheries Service.

[FR Doc. 2024-11384 Filed 5-23-24; 8:45 am]

BILLING CODE 3510-22-P